DEPARTMENT OF COMMERCE

International Trade Administration

[A-533-857]

Certain Oil Country Tubular Goods From India: Notice of Court Decision Not in Harmony With Final Determination of Sales at Less Than Fair Value and Final Negative Determination of Critical Circumstances and Notice of Amended Final Determination

AGENCY: Enforcement and Compliance, International Trade Administration, Department of Commerce.

SUMMARY: On March 16, 2017, the United States Court of International Trade (CIT) entered final judgment sustaining the final results of remand redetermination pursuant to court order by the Department of Commerce (Department) pertaining to the less-than-fair-value (LTFV) investigation of certain oil country tubular goods (OCTG) from India. The Department is notifying the public that the final judgment in this case is not in harmony with the Department's final determination in the LTFV investigation of OCTG from India.

DATES: Effective Date: March 26, 2017.

FOR FURTHER INFORMATION CONTACT: Andrew Huston, AD/CVD Operations, Office VII, Enforcement and Compliance, International Trade Administration, U.S. Department of Commerce, 1401 Constitution Avenue NW., Washington, DC 20230; telephone: (202) 482-4261.

SUPPLEMENTARY INFORMATION:

Background

On July 18, 2014, the Department published its final determination of sales at LTFV and final negative determination of critical circumstances in this proceeding.¹ The Department reached affirmative determinations for mandatory respondents GVN Fuels Limited (GVN) and Jindal SAW, Limited (Jindal SAW). U.S. Steel appealed the Final Determination to the CIT, and on May 5, 2016, the CIT sustained, in part, and remanded, in part, the Final Determination.² The court remanded the Final Determination to the Department with respect to its differential pricing analysis, specifically the Department's application and explanation of its ratio test in this case, for further explanation and consideration.³ Further, the court remanded for further explanation and consideration the Department's determinations that: (1) Jindal SAW was unaffiliated with certain suppliers of inputs; (2) Jindal SAW's yield loss data reasonably reflected its costs of production; and (3) the highest COP in GVN's cost database should be assigned to its dual-grade products.⁴ On August 31, 2016, the Department issued its final results of redetermination pursuant to remand in accordance with the CIT's order.⁵ On remand, the Department revised the weighted-average dumping margins for both GVN and Jindal SAW. On March 16, 2017, the CIT sustained the Department's Final Redetermination.⁶

¹ See Final Determination of Sales at Less Than Fair Value and Final Negative Determination of Critical Circumstances: Certain Oil Country Tubular Good from India, 79 FR 41981 (July 18, 2014) (Final Determination).

² See United States Steel Corp. v. United States, 179 F. Supp. 3d 1114 (CIT 2016) (US Steel).

³ See US Steel, 179 F. Supp. 3d at 1120.

⁴ Id.

⁵ See Final Results of Redetermination Pursuant to Remand, United States Steel Corporation et al. and Maverick Tube Corporation et al. v. United States, Consolidated Court No. 14-00263, dated August 31, 2017 (Final Redetermination).

⁶ See United States Steel Corporation et al. v. United States, Slip Op. 17-28, Consolidated Court No. 14-00263 (CIT 2017).

Timken Notice

In its decision in Timken,⁷ as clarified by Diamond Sawblades,⁸ the Court of Appeals for the Federal Circuit held that, pursuant to section 516A(c) of the Tariff Act of 1930, as amended (the Act), the Department must publish a notice of court decision that is not “in harmony” with a Department determination and must suspend liquidation of entries pending a “conclusive” court decision. The CIT's March 16, 2017, judgment constitutes a final decision of that court that is not in harmony with the Department's Final Determination. This notice is published in fulfillment of the publication requirements of Timken. Accordingly, the Department will continue suspension of liquidation of subject merchandise pending expiration of the period of appeal or, if appealed, pending a final and conclusive court decision.

⁷ See Timken Co. v. United States, 893 F.2d. 337 (Fed. Cir. 1990) (Timken).

⁸ See Diamond Sawblades Mfrs. Coalition v. United States, 626 F.3d. 1374 (Fed. Cir. 2010) (Diamond Sawblades).

Amended Final Determination

Because there is now a final court decision, the Department is amending the Final Determination with respect to GVN and Jindal SAW. The revised weighted-average dumping margins for GVN and Jindal SAW for the period July 1, 2012, through June 30, 2013, are as follows:

Exporter or producer | Weighted-average dumping margins (percentage)
GVN Fuels Limited | 1.07 (de minimis).
Jindal SAW, Limited | 11.24.

With respect to GVN, because we have calculated a de minimis weighted-average dumping margin, in the event the court's ruling is not appealed or, if appealed, upheld by a final and conclusive court decision, the Department will amend the order to exclude GVN's entries from further suspension of liquidation and will order all entries currently suspended to be liquidated without regard to dumping duties.

Amended Cash Deposit Rates

Neither GVN nor Jindal SAW have a superseding cash deposit rate (e.g., from an administrative review) and, therefore, the Department will issue revised cash deposit instructions to U.S. Customs and Border Protection. For Jindal SAW, the revised cash deposit rate will be the rate indicated above, effective March 26, 2017. For GVN, because the revised weighted-average dumping margin is de minimis, the revised cash deposit rate will be zero, effective March 26, 2017.

Notification to Interested Parties

This notice is issued and published in accordance with sections 516A(e)(1), 751(a)(1) and 777(i)(1) of the Act.

Dated: April 6, 2017.
Ronald K. Lorentzen,
Acting Assistant Secretary for Enforcement and Compliance.

[FR Doc. 2017-07362 Filed 4-11-17; 8:45 am]

BILLING CODE 3510-DS-P